DEPARTMENT OF AGRICULTURE

Forest Service

Los Padres National Forest; California; Environmental Impact Statement for the Continued Operation of the Winchester Canyon Gun Club

AGENCY: Forest Service, USDA.

ACTION: Notice of intent to prepare an environmental impact statement.

SUMMARY: The USDA, Forest Service, Los Padres National Forest, gives notice of intent to conduct an analysis and to prepare an Environmental Impact Statement (EIS) for reissue of a 20-year special use permit for the Winchester Canyon Gun Club. This notice announces the beginning of scoping, describes the proposed action, describes the decision to be made, and estimates the dates for filing the draft and final EIS. This notice also provides information concerning public participation, and the names and addresses of the Agency officials who can provide information.

DATES: Comments concerning the scope of the analysis must be received by January 19, 2010. The draft environmental impact statement is expected May 2010, and the final environmental impact statement is expected October 2010.

ADDRESSES: Send written comments to Los Padres National Forest, 6755 Hollister Avenue, Suite 150, Goleta, CA 93117, attention: Jeff Bensen. Comments may also be sent via e-mail to: comments-pacificsouthwest-los-padres-santa-barbara@fs.fed.us, or via facsimile to (805) 561-5729.

Comments received in response to this solicitation, including names and addresses of those who comment, will be part of the public record for this proposed action.

FOR FURTHER INFORMATION CONTACT: Questions about the proposed action may be directed to Project Team Leader, Jeff Bensen, Los Padres National Forest, 6755 Hollister Avenue, Suite 150, Goleta, CA 93117; or by telephone: (805) 961-5744. E-mail: comments-pacificsouthwest-los-padres-santa-barbara@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Winchester Canyon Gun Club has been authorized to operate on the Los Padres National Forest by special use permit since the late 1960s. The last term permit expired in 1995 and from that time on, the WCGC has been authorized by annual special use permits. In 2007, an environmental assessment was completed for issuing a 20-year special use permit and a Decision Notice/Finding of No Significant Impact was issued. The decision was appealed and the R5 Regional Forester sent the decision back to the Los Padres National Forest for further analysis. The purpose of this action is to reinitiate the proposed action in an environmental impact statement.

Proposed Action

The proposed action is to reissue a 20-year special use permit to the Winchester Canyon Gun Club (WCGC). The proposed action requires changes to the historic activities and a reduction of the number of shooting facilities, as well as a reduction in the number of acres under special use permit from what has been previously authorized. A 200, 300, and 600-yard range and associated shooting contaminants will be removed from the San Jose basin area, and the site will be restored. The removal of these facilities physically removes the WCGC shooting activities from areas of significant cultural resources in the San Jose basin. The other existing facilities will remain and the permit boundary will be adjusted to include all areas impacted by shooting activities to be administered under Forest Service target range policy.

Possible Alternatives

A full range of alternatives will be considered: Non-renewal of the permit, renewal of the permit, and renewal of the permit with modifications. In addition, alternatives responding to issues generated during the scoping process will be considered. All alternatives would comply with the Los Padres National Forest Land Management Plan.

Responsible Official

Peggy Hernandez, Forest Supervisor, Los Padres National Forest, Goleta, California, is the responsible official for this EIS and its Record of Decision. As the Responsible Official, the Forest Supervisor will document the decision and reason for the decision in the Record of Decision. The decision will be subject to Forest Service Appeals Regulations (36 CFR Part 215).

Nature of Decision To Be Made

The Responsible Official will make a decision considering the following:

1. Whether the proposed action will proceed as proposed, with modifications, or not at all.

2. What associated mitigation measures and monitoring requirements will be required.

Preliminary Issues

Preliminary issues identified during the earlier public involvement include the following:

1. Potential impacts of lead and other shooting contaminants on-site:

a. At impacted areas of San Jose basin from long bore ranges.

b. From continued operation of existing facilities, which are proposed to remain.

2. Potential for offsite migration of lead and other shooting contaminants.

3. Impacts to cultural sites in the San Jose basin area.

4. Target range safety.

5. Target range potential for starting wildfire.

6. Need for a controlled regulated shooting facility.

Scoping Process

This notice of intent initiates the scoping process, which guides the development of the environmental impact statement. The Forest Supervisor is seeking public and agency comment on the proposed action to identify issues that arise from the proposed action. These issues may lead to other alternatives, or additional mitigation measures and monitoring requirements. In addition to this notice, public scoping letters will be mailed to interested parties and a project scoping open house will be held on December 9, 2009, from 5-7 p.m. at the Los Padres Supervisor's Office at 6755 Hollister Avenue, Suite 150, Goleta, CA 93117.

It is important reviewers provide their comments at such times and in such a way they are useful to the Agency's preparation of the environmental impact statement. Therefore, comments should be provided prior to the close of the comment period and should clearly articulate the reviewer's concerns and contentions. The submission of timely and specific comments can affect a reviewer's ability to participate in subsequent administrative appeal or judicial review.

Dated: November 17, 2009.
Peggy Hernandez,
Forest Supervisor.

[FR Doc. E9-28817 Filed 12-1-09; 8:45 am]

BILLING CODE 3410-11-P